DEPARTMENT OF DEFENSE

Defense Acquisition Regulations System

48 CFR Parts 211, 212, and 252

Defense Federal Acquisition Regulation Supplement; Reporting of Government-Furnished Property (DFARS Case 2009-D043)

AGENCY: Defense Acquisition Regulations System; Department of Defense (DoD).

ACTION: Proposed rule; extension of comment period.

SUMMARY: DoD is proposing to amend the Defense Federal Acquisition Regulation Supplement (DFARS) to revise and expand reporting requirements for Government-furnished property to include items uniquely and non-uniquely identified, and to clarify policy for contractor access to Government supply sources.

DATES: Comments on the proposed rule should be submitted in writing to the address shown below on or before April 8, 2011, to be considered in the formation of the final rule.

ADDRESSES: You may submit comments, identified by DFARS Case 2009-D043, using any of the following methods:

Regulations.gov: http://www.regulations.gov.

Submit comments via the Federal eRulemaking portal by inputting “DFARS Case 2009-D043” under the heading “Enter keyword or ID” and selecting “Search.” Select the link “Submit a Comment” that corresponds with “DFARS Case 2009-D043.” Follow the instructions provided at the “Submit a Comment” screen. Please include your name, company name (if any), and “DFARS Case 2009-D043” on your attached document.

E-mail: dfars@osd.mil. Include DFARS Case 2009-D043 in the subject line of the message.

Fax: 703-602-0350.

Mail: Defense Acquisition Regulations System, Attn: Ms. Clare Zebrowski, OUSD (AT&L) DPAP/DARS, 3060 Defense Pentagon, Room 3B855, Washington, DC 20301-3060.

Comments received generally will be posted without change to http://www.regulations.gov, including any personal information provided. To confirm receipt of your comment(s), please check http://www.regulations.gov approximately two to three days after submission to verify posting (except allow 30 days for posting of comments submitted by mail).

FOR FURTHER INFORMATION CONTACT: Ms. Clare Zebrowski, Telephone 703-602-0289; facsimile 703-602-0350. Please cite DFARS Case 2009-D043.

SUPPLEMENTARY INFORMATION:

A. Background

DoD published a proposed rule in the Federal Register on December 22, 2010 (75 FR 80426), with a request for comment by February 22, 2011. DoD is extending the comment period for 45 days to provide additional time for interested parties to review the proposed DFARS changes. DoD is planning a public meeting and detailed information on the meeting will be published in the Federal Register at a later date.

Ynette R. Shelkin,
Editor, Defense Acquisition Regulations System.

[FR Doc. 2011-3727 Filed 2-17-11; 8:45 am]

BILLING CODE 5001-08-P